DEPARTMENT OF HEALTH AND HUMAN SERVICES

Health Resources and Services Administration

Criteria for Determining Priorities Among Correctional Facility Health Professional Shortage Areas

AGENCY: Health Resources and Services Administration, HHS.

ACTION: General notice.

SUMMARY: In accordance with the requirements of section 333A(b)(1) of the Public Health Service (PHS) Act, as amended by the Health Care Safety Net Amendments of 2002, 42 U.S.C. 254f-1(b)(1), the Secretary of HHS shall establish the criteria which she will use to make determinations under section 333A(a)(1)(A) of the health professional shortage areas (HPSAs) with the greatest shortages. This notice sets forth revised criteria for determining correctional facility HPSA scores.

DATES: Effective January 10, 2012.

FOR FURTHER INFORMATION CONTACT: CAPT Phil Budashewitz, Director, Office of Policy and Program Development, Bureau of Clinician Recruitment and Service, Health Resources and Services Administration, 5600 Fishers Lane, Parklawn Building, Room 8A-55, Rockville, Maryland 20857, ((301) 594-4130).

SUPPLEMENTARY INFORMATION: Section 332 of the PHS Act, 42 U.S.C. 254e, provides that the Secretary shall designate HPSAs based on criteria established by regulation. HPSAs are defined in Section 332 to include (1) urban and rural geographic areas with shortages of health professionals, (2) population groups with such shortages, and (3) facilities with such shortages. The required regulations setting forth the criteria for designating HPSAs are codified at 42 C.F.R. Part 5.

Section 333A(a)(1)(A) of the PHS Act requires that the Secretary give priority in the assignment of National Health Service Corps personnel to entities serving HPSAs with the greatest health professional shortage. Section 333A(b) of the PHS Act requires that the Secretary establish criteria specifying the manner in which she determines HPSAs of greatest shortage and publish the criteria, and any revisions to the criteria, in the Federal Register. The criteria established by the Secretary create a method for scoring HPSAs based on relative shortage.

Correctional Facility HPSA Scores

Correctional facility HPSA scores are currently extrapolated from the degree-of-shortage (DOS) groups determined in the primary care, mental health, and dental HPSA designation process. See 42 CFR part 5, Appendices A, B and C. The determination of DOS groups for these facilities is based primarily on internee/inpatient-to-provider ratios, which is similar to the population-to-provider ratio used for other types of HPSAs. This notice revises the criteria for scoring primary care, mental health and dental correctional facility HPSAs. The Secretary will utilize a combination of the correctional facility's DOS group and an indicator of the supply of providers in the geographic area where the facility is located, as measured by the designation of a geographic HPSA and its relative geographic HPSA score.

The table below defines the points correctional facilities will receive based on their DOS group:

Degree-of-Shortage Group 1 | 12 points.
Degree-of-Shortage Group 2 | 6 points.
Degree-of-Shortage Group 3 | 3 points.

The table below defines the points correctional facilities will receive based on their location in a geographic HPSA and the geographic HPSA's score:

Geographic HPSA score between 20-25 (20-26 in the case of dental or mental health HPSAs) | 12 points.
Geographic HPSA score between 14-19 | 9 points.
Geographic HPSA score between 8-13 | 6 points.
Geographic HPSA score between 1-7 | 3 points.
Not located in a geographic HPSA | 0 points.

Points for the DOS and the geographic HPSA score will be equally weighted. The maximum HPSA score for a correctional facility is 24.

Paperwork Reduction Act

The criteria used to make determinations under section 333A(a)(1)(A) of the HPSAs with the greatest shortages described in this announcement will not involve data collection activities that fall under the purview of the Paperwork Reduction Act of 1995. If the methods for determining HPSAs with the greatest shortages fall under the purview of the Paperwork Reduction Act, HRSA will seek OMB clearance for proposed data collection activities.

Dated: January 4, 2012.
Mary K. Wakefield,
Administrator.

[FR Doc. 2012-223 Filed 1-9-12; 8:45 am]

BILLING CODE 4165-15-P